FEDERAL MINE SAFETY AND HEALTH REVIEW COMMISSION

Sunshine Act Meeting

November 26, 2014.

TIME AND DATE: 10:00 a.m., Thursday, December 11, 2014.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor v. Excel Mining, LLC, Docket No. KENT 2009-1368. (Issues include whether the Administrative Law Judge erred by affirming a “significant and substantial” designation and an “unwarrantable failure to comply” designation.) Any person attending this meeting who requires special accessibility features and/or auxiliary aids, such as sign language interpreters, must inform the Commission in advance of those needs. Subject to 29 CFR 2706.150(a)(3) and 2706.160(d).

CONTACT PERSON FOR MORE INFORMATION: Emogene Johnson (202) 434-9935/(202) 708-9300 for TDD Relay/1-800-877-8339 for toll-free.

Sarah L. Stewart,
Deputy General Counsel.

[FR Doc. 2014-28371 Filed 11-26-14; 4:15 pm]

BILLING CODE 6735-01-P